DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before June 19, 2013.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: George F. Triebsch, Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2013-019-C.

Petitioner: Peabody Twentymile Mining LLC, Three Gateway Center, Suite 1500, 401 Liberty Avenue, Pittsburgh, Pennsylvania 15222.

Mine: Foidel Creek Mine, MSHA I.D. No. 05-03836, located in Routt County, Colorado.

Regulation Affected: 30 CFR 75.1101-7(a) (Installation of water sprinkler systems; requirements).

Modification Request: The petitioner requests a modification of the existing standard to permit an alternative method of compliance with respect to its sprinkler system for its conveyor belts. The petitioner proposes the following alternative for best protection and could be installed in a horizontal position:

1. The pendant spray in its sprinkler system at belt drives and belt take-ups will be oriented for the best level of protection as determined by Twentymile and may be oriented in a horizontal position.

2. The number of sprays on the branch lines may exceed eight and may be positioned at a spacing of less than six feet. The number of sprays is not limited so long as 10 psi is maintained at the furthermost spray.

3. The pressure in the branch lines when tested should be at a minimum of 10 psi. The pressure will not exceed 250 psi when the sprays are operating.

4. Each water sprinkler system will consist of a system with automatic sprinklers located not more than eight feet apart so that the water discharge from the sprinklers will cover 50 feet of flame-resistant belt, or 150 feet of non-flame-resistant belt, adjacent to the belt drive. In addition, automatic sprinklers will be located so that the water discharged from the sprinkler(s) will cover the drive motor(s), entire belt take-up, electrical controls, and gear reducing unit for each belt drive.

5. The residual pressure in each sprinkler system will not be less than 10 psi with any eight sprinklers open. The supply of water will be adequate to provide a constant flow of water for at least ten minutes with all sprinklers functioning.

6. Each water sprinkler system will have a strainer with a flush-out connection and a manual shut-off valve.

7. Installation of the branch line may be no less than 3 inches but may be more than 12 inches from the roof but no closer than 3 inches.

8. Each automatic sprinkler will be designed to stop the running conveyor belt when a water sprinkler is activated.

9. Each automatic sprinkler will be a standard ⅜-inch orifice, pendant-type sprinkler, sidewall or umbrella spray with fusible link actuation. Actuation temperature for each automatic sprinkler will be between 200 degrees Fahrenheit and 230 degrees Fahrenheit.

10. A functional test to ensure proper operation will be conducted during the installation of each new system and during the subsequent repair or replacement of any critical part thereof. The functional test will be conducted in accordance with the following:

a. Close the manual shut-off valve.

b. Open the flush-out valve.

c. Attach a test manifold to the end of the branch line.

d. The manifold consists of a 2″ diameter pipe 2-3 feet long. The manifold is coupled to the end of the branch line. The end which attaches to the branch line is grooved and the other end is capped. There are ten ½-inch threaded pipe couplers welded to the 2-3 foot pipe. Eight fire suppression sprays with open orifices will be threaded to 8 of the pipe couplers. A suitable pressure gauge will be attached to the ninth pipe coupler on the downstream end. The tenth coupler is a spare and plugged.

e. Open the valve on the branch line and read the pressure indicated on the gauge. The water sprinkler system pressure is adequate if the gauge indicates 10 psi or more.

f. Verify that the water flow switch is activated and the dispatch center receives the alarm.

g. Restore the system to its operational condition.

The petitioner asserts that the proposed alternative method will guarantee the miners no less than the same measure of protection afforded by the standard.

Docket Number: M-2013-020-C

Petitioner: Liberty Fuels Company, LLC, 4707 Highway 493, DeKalb, Mississippi 39328.

Mine: Liberty Mine, MSHA I.D. No. 22-00803, located in Kemper County, Mississippi.

Regulation Affected: 30 CFR 77.803 (Fail safe ground check circuits on high-voltage resistance grounded systems).

Modification Request: The petitioner requests a modification of the existing standard to permit an alternative method of compliance when the boom/mast is raised or lowered during necessary repairs. The petitioner states that it realizes that some stages of assembly/disassembly of draglines require special consideration when the boom mast is raising/lowering into position. The boom is raised/lowered utilizing the on-board motor electrical system. This is critical because during this process, power to the machine must not be interrupted. Power loss may result in the boom becoming uncontrolled and falling, and could injure workers. To address this condition, the following guidelines are proposed to help prevent loss of power to the machine. This procedure only addresses raising and lowering the boom on draglines utilizing the machine's electrical system. It does not replace other mechanical precautions or the requirements of 30 CFR 77.405(b) that are necessary to safely secure booms/masts during construction or maintenance procedures.

The following procedure has been designed for “boom raising” or “boom lowering” at the Liberty Mine. During this period of construction and maintenance, the machine will not be performing mining operations. This procedure will also be applicable in instances of disassembly or major maintenance, which require the boom to be raised or lowered. The following guidelines will be used to minimize the potential for electrical power loss during this critical boom procedure.

The Liberty Mine will use this procedure during disassembly or major maintenance only. Major maintenance requiring the raising and lowering of the boom mast would be performed on an as needed basis, which could span long periods of time. Therefore, training and review of the procedure would be conducted prior to this need. At such time all persons involved in the process would be trained and retrained.

(1) Liberty Mine employees, its contractors and affected persons will be trained on the requirements of the procedure at the mine.

(2) The procedure will be coordinated by a Liberty dragline maintenance supervisor and, if possible, the contractor's representative will assist. At least two (2) MSHA qualified electricians will be present at all times during the procedure.

(3) The number of persons required on board the machine will be limited. An MSHA qualified electrician, dragline operator, the dragline oiler, and individuals with critical tasks that are pertinent to the boom raising/lowering process will be permitted on the machine. The dragline maintenance supervisor and contractor's representative may either be on board or at a location on the ground to assist in the coordination.

(4) The affected area under the boom will be secured to prevent persons from entering and/or contacting the frame of the machine during the “boom raising/lowering”. The area will be secured and only those identified in Item #3 will be permitted inside the secured area. At no time will anyone be permitted under the boom.

(5) Communication between the dragline operator, the MSHA qualified electrician at the dragline, the MSHA qualified electrician at the substation, the dragline maintenance supervisor and the contractor's representative, if present, will be a dedicated channel on the company's two-way radio.

(6) An MSHA qualified electrician will complete an examination of all electrical components that will be energized. The examination will be done within two (2) hours prior to the boom raising/lowering process. A record of this examination will be made available to interested parties. The machine will be de-energized to perform this examination.

(7) After the examination has been completed, the electrical components necessary to complete the boom raising/lowering process will be energized to assure they are operating properly as determined by an MSHA qualified electrician. When completed the machine will be de-energized and locked out.

(8) The ground fault and ground check circuits will be disabled provided:

(a) The internal grounding conductor of the trailing cable has been tested and is continuous from the frame of the dragline to the grounding resistor located at the substation. Utilizing the ground check circuit and disconnecting the pilot circuit at the machine frame and verifying the circuit breaker cannot be closed will be an acceptable test. Resistance measurements can also be used to assure the ground conductor is continuous. The grounding resistor will be tested to assure it is properly connected, is not open, or is not shorted.

(b) Normal short circuit protection will be provided at all times. The over current relay setting may be increased up to 100 percent above its normal setting.

(9) During the boom raising/lowering procedure an MSHA qualified electrician will be positioned at the substation dedicated to monitor the grounding circuit. The MSHA qualified electrician at the substation will at all times maintain communications with an MSHA qualified electrician at the dragline. If a grounded phase condition or an open ground wire should occur during the process, the MSHA qualified electrician at the substation will notify the MSHA qualified electrician at the dragline. All persons on board the machine must be aware of the condition and must remain on board the machine. The boom must be lowered to the ground or controlled and the electrical circuit de-energized, locked and tagged out. The circuit must remain de-energized until the condition is corrected. The ground fault and ground check circuits will be reinstalled prior to re-energizing and testing the machine. Once the circuits have been tested and no adverse conditions are present, the boom raising/lowering procedure, as outlined above, will be resumed.

(10) During this construction/maintenance procedure, persons cannot get on/off the dragline while the ground check ground fault circuits are disabled unless the circuit is de-energized, locked and tagged out as verified by the MSHA qualified electrician at the substation.

(11) After the boom raising/lowering is completed, the MSHA qualified electrician at the substation will restore all the protective devices to their normal state. When this has been completed, the MSHA qualified electrician at the substation will notify the dragline operator that all circuits are in their normal state. At this time normal work procedures can begin.

The petitioner asserts that the proposed alternative method will not result in a diminution of safety to the miners affected.

Dated: May 14, 2013.
George F. Triebsch,
Director, Office of Standards, Regulations and Variances.

[FR Doc. 2013-11887 Filed 5-17-13; 8:45 am]

BILLING CODE 4510-43-P